DEPARTMENT OF ENERGY

Federal Energy Regulatory Commission

[Docket No. EC00-56-000, et al.]

Onondaga Cogeneration Limited Partnership, et al.; Electric Rate and Corporate Regulation Filings

February 14, 2000

Take notice that the following filings have been made with the Commission:

1. Onondaga Cogeneration Limited Partnership

[Docket No. EC00-56-000]

Take notice that on February 4, 2000, Onondaga Cogeneration Limited Partnership (Onondaga) tendered for filing with the Federal Energy Regulatory Commission an application for authorization to transfer facilities under Section 203 of the Federal Power Act in connection with a sale-leaseback of facilities associated with Onondaga's generating facility in Geddes, New York.

Comment date: March 6, 2000, in accordance with Standard Paragraph E at the end of this notice.

2. Con Edison Energy, Inc.; Strategic Power Management, Inc.; U. S. Power & Light, Inc.; Business Discount Plan, Inc.

[Docket Nos. ER98-2491-006, ER96-2591-012, ER96-105-017, and ER99-581-004]

Take notice that on February 8, 2000, the above-mentioned power marketers filed quarterly reports with the Commission in the above-mentioned proceedings for information only.

3. New England Power Pool

[Docket No. ER99-2175-003]

Take notice that on February 8, 2000, ISO New England Inc. tendered for filing with the Commission, information regarding Market Rule 15 actions for September 1999 in the above-referenced proceeding for informational purposes only.

4. The Toledo Edison Company

[Docket No. ER00-1540-000]

Take notice that on February 4, 2000, Toledo Edison Company filed their quarterly report for the quarter ending December 31, 1999.

Comment date: March 6, 2000, in accordance with Standard Paragraph E at the end of this notice.

5. Southern Energy NY-GEN, L.L.C.; Southern Energy Bowline, L.L.C.; Southern Energy Lovett, L.L.C.

[Docket Nos. ER00-1553-000, ER00-1554-000, and ER00-1555-000]

Take notice that on February 8, 2000, the above-mentioned affiliated power producers and/or public utilities filed their quarterly reports for the quarter ending December 31, 1999.

Comment date: March 6, 2000, in accordance with Standard Paragraph E at the end of this notice.

6. Wisvest-Connecticut, LLC Consolidated Edison Company of New York, Inc.; Orange and Rockland Utilities, Inc.; Orange and Rockland Utilities, Inc.; USGen New England, Inc.

[Docket Nos. ER00-1557-000, ER00-1558-000, ER00-1559-000, ER00-1560-000, and ER00-1561-000]

Take notice that on February 9, 2000, the above-mentioned affiliated power producers and/or public utilities filed quarterly reports.

Comment date: March 6, 2000, in accordance with Standard Paragraph E at the end of this notice.

7. Louisville Gas and Electric Company/Kentucky Utilities Company

[Docket No. ER00-1565-000]

Take notice that on February 7, 2000 Louisville Gas and Electric Company (LG&E)/Kentucky Utilities (KU) (hereinafter Companies) tendered for filing an executed unilateral Service Agreement between the Companies and Reliant Energy Services under the Companies Rate Schedule MBSS.

Comment date: February 28, 2000, in accordance with Standard Paragraph E at the end of this notice.

8. Louisville Gas and Electric Company/Kentucky Utilities Company

[Docket No. ER00-1566-000]

Take notice that on February 7, 2000, Louisville Gas and Electric Company (LG&E)/Kentucky Utilities (KU) (hereinafter Companies) tendered for filing an executed Firm Point-to-Point Transmission Service Agreement between the Companies and British Columbia Power Exchange Corporation under the Companies Open Access Transmission Tariff.

Comment date: February 28, 2000, in accordance with Standard Paragraph E at the end of this notice.

9. Louisville Gas and Electric Company/Kentucky Utilities Company

[Docket No. ER00-1567-000]

Take notice that on February 7, 2000, Louisville Gas and Electric Company (LG&E)/Kentucky Utilities (KU) (hereinafter Companies) tendered for filing an executed Non-Firm Point-to-Point Transmission Service Agreement between the Companies and British Columbia Power Exchange Corporation under the Companies Open Access Transmission Tariff.

Comment date: February 28, 2000, in accordance with Standard Paragraph E at the end of this notice.

10. California Independent System Operator Corporation

[Docket No. ER00-1568-000]

Take notice that on February 7, 2000, the California Independent System Operator Corporation tendered for filing a Scheduling Coordinator Agreement between the ISO and Arizona Electric Power Cooperative, Inc. (Arizona Electric) for acceptance by the Commission.

The ISO states that this filing has been served on Arizona Electric and the California Public Utilities Commission.

The ISO is requesting waiver of the 60-day notice requirement to allow the Scheduling Coordinator Agreement to be made effective as of January 18, 2000.

Comment date: February 28, 2000, in accordance with Standard Paragraph E at the end of this notice.

11. Florida Power Corporation

[Docket No. ER00-1569-000]

Take notice that on February 7, 2000, Florida Power Corporation (FPC) tendered for filing a revised Exhibit A to the existing Contract for Interchange Service between itself and Kissimmee Utility Authority (KUA). The revised Exhibit A contains revisions to the description of the existing point of interconnection to reflect changes in facilities and the description of a new point of interconnection.

FPC requests Commission waiver of the 60-day notice requirement in order to allow the contract to become effective as a rate schedule on February 8, 2000.

Comment date: February 28, 2000, in accordance with Standard Paragraph E at the end of this notice.

12. Idaho Power Company

[Docket No. ER00-1570-000]

Take notice that on February 7, 2000, Idaho Power Company (IPC) tendered for filing with the Federal Energy Regulatory Commission, Service Agreements for Non-firm Point-to-Point Transmission Service and Firm Point-to-Point Transmission Service between Idaho Power Company and Tri-State Generation and Transmission Association.

Comment date: February 28, 2000, in accordance with Standard Paragraph E at the end of this notice.

13. Delmarva Power & Light Company

[Docket No. ER00-1571-000]

Take notice that on February 7, 2000 Delmarva Power & Light Company (Delmarva) tendered for filing an executed umbrella service agreement with Virginia Electric and Power Company under Delmarva's market rate sales tariff, FERC Electric Tariff, Second Revised Volume No. 14.

Delmarva requests an effective date of February 7, 2000, the date of filing.

Comment date: February 28, 2000, in accordance with Standard Paragraph E at the end of this notice.

14. USGen New England, Inc.

[Docket No. ER00-1572-000]

Take notice that on February 7, 2000, USGen New England, Inc. (USGenNE) tendered for filing an unexecuted System Restoration Service Agreement between USGenNE and ISO New England Inc. (ISO New England).

Copies of the filing have been served upon ISO New England and counsel for the New England Power Pool.

Comment date: February 28, 2000, in accordance with Standard Paragraph E at the end of this notice.

15. Southwestern Electric Power Company

[Docket No. ER00-1573-000]

Take notice that on February 7, 2000, Southwestern Electric Power Company (SWEPCO) filed Amendment No. 3 to the Power Supply Agreement (PSA), as amended, between SWEPCO and the City of Bentonville, Arkansas (Bentonville) in order to provide for a new point of delivery. A revised Exhibit F to the PSA, Points of Delivery, is attached to and incorporated in the Amendment No. 3.

SWEPCO requests an effective date of April 15, 2000.

Copies of the filing have been served on Bentonville and the Arkansas Public Service Commission.

Comment date: February 28, 2000, in accordance with Standard Paragraph E at the end of this notice.

16. Ameren Services Company

[Docket No. ER00-1574-000]

Take notice that on February 7, 2000, Ameren Services Company (ASC) tendered for filing a Service Agreement for Market Based Rate Power Sales between ASC and Edgar Electric Cooperative Association d/b/a EnerStar Power Corp. (EnerStar). ASC asserts that the purpose of the Agreement is to permit ASC to make sales of capacity and energy at market based rates to EnerStar pursuant to ASC's Market Based Rate Power Sales Tariff filed in Docket No. ER98-3285-000.

ASC requests that the Service Agreement become effective January 26, 2000.

Comment date: February 28, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-4086 Filed 2-18-00; 8:45 am]

BILLING CODE 6717-01-P